DEPARTMENT OF STATE

[Public Notice 9414]

30-Day Notice of Proposed Information Collection: Commodity Jurisdiction Determination

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to February 22, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Mr. Steven Derscheid, PM/DDTC, SA-1, 12th Floor, Directorate of Defense Trade Controls, Bureau of Political-Military Affairs, Department of State, Washington, DC 20522-0112, who may be reached via email at derscheidsa@state.gov.

SUPPLEMENTARY INFORMATION:

• Title of Information Collection: Commodity Jurisdiction Determination.

• OMB Control Number: 1405-0163.

• Type of Request: Revision of Currently Approved Collection.

• Originating Office: Bureau of Political-Military Affairs, Directorate of Defense Trade Controls (PM/DDTC).

• Form Number: DS-4076.

• Respondents: Business and Nonprofit Organizations.

• Estimated Number of Respondents: 1,043.

• Estimated Number of Responses: 1,043.

• Average Time per Response: 4 hours.

• Total Estimated Burden Time: 4,172 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Directorate of Defense Trade Controls (DDTC), Bureau of Political-Military Affairs, U.S. Department of State, in accordance with the Arms Export Control Act (AECA) (22 U.S.C. 2751 et seq.) and the International Traffic in Arms Regulations (ITAR) (22 CFR parts 120-130), has the principal missions of taking final action on license applications and other requests for defense trade transactions via commercial channels, ensuring compliance with the statute and regulations, and collecting various types of reports. By statute, Executive Order, regulation, and delegation of authority, DDTC is charged with controlling the export and temporary import of defense articles, the provision of defense services, and the brokering thereof, which are covered by the U.S. Munitions List (USML).

The information submitted pursuant to the Commodity Jurisdiction Determination (OMB Control #1405-0163) will be used to evaluate whether a particular defense article or defense service is covered by the USML and therefore is subject to the export licensing jurisdiction of the Department of State. This collection may also be used to request a change in USML category designation, request the removal of the defense article from the USML, or request the reconsideration of a previous commodity jurisdiction determination.

Methodology: This information collection may be sent to the Directorate of Defense Trade Controls via the following methods: electronically or mail.

Dated: January 5, 2016.
Lisa Aguirre,
Managing Director, Directorate of Defense Trade Controls, Bureau of Political-Military Affairs, Department of State.

[FR Doc. 2016-01163 Filed 1-20-16; 8:45 am]

BILLING CODE 4710-25-P